FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 19, 2010.

A. Federal Reserve Bank of Kansas City (Todd Offerbacker, Assistant Vice President) 925 Grand Avenue, Kansas City, Missouri 64198-0001:

1. Charles B. Flaming, individually, and Charles B. Flaming and Sadle Cattle Company, as a group acting in concert, both of Paxton, Nebraska; to acquire control of Henderson State Company, parent of Henderson State Bank, both in Henderson, Nebraska.

Board of Governors of the Federal Reserve System, December 29, 2009.
Margaret McCloskey Shanks,
Associate Secretary of the Board.

[FR Doc. E9-31158 Filed 12-31-09; 8:45 am]

BILLING CODE 6210-01-S